DEPARTMENT OF LABOR

Wage and Hour Division

Proposed Extension of the Approval of Information Collection Requirements

AGENCY: Wage and Hour Division, Department of Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95). 44 U.S.C. 3056(c)(2)(A). This program helps to ensure that requested data can be provided in a desired format, reporting burden (time and financial resources) is minimized, collection instruments are clearly understood, and the impact of collection requirements on respondents can be properly assessed. Currently, the Wage and Hour Division is soliciting comments concerning its proposal to extend Office of Management and Budget (OMB) approval of the Information Collection: Davis-Bacon Certified Payroll. A copy of the proposed information request can be obtained by contacting the office listed below in the FOR FURTHER INFORMATION CONTACT section of this Notice.

DATES: Written comments must be submitted to the office listed in the ADDRESSES section below on or before October 7, 2011.

ADDRESSES: You may submit comments identified by Control Number 1235-0008, by either one of the following methods: E-mail: WHDPRAComments@dol.gov; Mail, Hand Delivery, Courier: Division of Regulations, Legislation, and Interpretation, Wage and Hour, U.S. Department of Labor, Room S-3502, 200 Constitution Avenue, NW., Washington, DC 20210. Instructions: Please submit one copy of your comments by only one method. All submissions received must include the agency name and Control Number identified above for this information collection. Because we continue to experience delays in receiving mail in the Washington, DC area, commenters are strongly encouraged to transmit their comments electronically via e-mail or to submit them by mail early. Comments, including any personal information provided, become a matter of public record. They will also be summarized and/or included in the request for OMB approval of the information collection request.

FOR FURTHER INFORMATION CONTACT: Mary Ziegler, Director, Division of Regulations, Legislation, and Interpretation, Wage and Hour, U.S. Department of Labor, Room S-3502, 200 Constitution Avenue, NW., Washington, DC 20210; telephone: (202) 693-0406 (this is not a toll-free number). Copies of this notice may be obtained in alternative formats (Large Print, Braille, Audio Tape, or Disc), upon request, by calling (202) 693-0023 (not a toll-free number). TTY/TTD callers may dial toll-free (877) 889-5627 to obtain information or request materials in alternative formats.

SUPPLEMENTARY INFORMATION: I. Background: The Davis-Bacon and related Acts (DBRA) require the application of Davis-Bacon labor standards to Federal and Federally assisted construction. The Copeland Act (40 U.S.C. 3145) requires the Secretary of Labor to prescribe reasonable regulations for contractors and subcontractors engaged in construction work subject to Davis-Bacon labor standards. While the Federal contracting or assistance-administering agencies have a primary responsibility for enforcement of Davis-Bacon labor standards, Reorganization Plan Number 14 of 1950 assigns to the Secretary of Labor responsibility for developing government-wide policies, interpretations and procedures to be observed by the contracting and assisting agencies, in order to assure coordination of administration and consistency of DBRA enforcement.

The Copeland Act provision cited above specifically requires the regulations to “include a provision that each contractor and subcontractor each week must furnish a statement on the wages paid each employee during the prior week.” This requirement is implemented by 29 CFR 3.3 and 3.4 and the standard Davis-Bacon contract clauses set forth at 29 CFR 5.5. Regulations 29 CFR 5.5 (a)(3)(ii)(A) requires contractors to submit weekly a copy of all payrolls to the Federal agency contracting for or financing the construction project. If the agency is not a party to the contract, the contractor will submit the payrolls to the applicant, sponsor, or owner, as the case may be, for transmission to the contracting agency. This same section requires that the payrolls submitted shall set out accurately and completely the information required to be maintained under 29 CFR 5.5(a)(3)(i), except that full social security numbers and home addresses shall not be included on weekly transmittals, and instead, the payrolls shall only need to include an individually identifying number for each employee (e.g., the last four digits of the employee's social security number). The required weekly payroll information may be submitted in any form desired. Optional Form WH-347 is available for this purpose from the Wage and Hour Division Web site at http://www.dol.gov/whd/forms/wh347.pdf.

Regulations 29 CFR 3.3(b) requires each contractor to furnish weekly a signed “Statement of Compliance” accompanying the payroll indicating the payrolls are correct and complete and that each laborer or mechanic has been paid not less than the proper Davis-Bacon Act (DBA) prevailing wage rate for the work performed. The weekly submission of a properly executed certification, with the prescribed language set forth on page 2 of Optional Form WH-347, satisfies the requirement for submission of the required “Statement of Compliance. Id. at §§ 3.3(b), 3.4(b), and 5.5(a)(3)(ii)(B). Regulations 29 CFR 3.4(b) and 5.5(a)(3)(i) require contractors to maintain these records for three years after completion of the work.

II. Review Focus: The Department of Labor is particularly interested in comments which:

• Evaluate whether the proposed collection of information is necessary for the proper performance of the functions of the agency, including whether the information will have practical utility;

• Enhance the quality, utility and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions: The DOL seeks an approval for the extension of this information collection requirement that contractors and subcontractors on Federal and Federally assisted construction subject to DBRA labor standards submit weekly certified payrolls in accordance with the statutory, regulatory, and contractual requirements discussed herein.

Type of Review: Extension.

Agency: Wage and Hour Division.

Title: Davis-Bacon Certified Payroll.

OMB Number: 1235-0008.

Affected Public: Business or other for-profit; Federal Government; and State, Local, or Tribal Government.

Total Respondents: 96,096.

Total Annual Responses: 2,210,208.

Estimated Total Burden Hours: 2,062,861.

Estimated Time per Response: 56 minutes.

Frequency: Weekly.

Total Burden Cost (Capital/Startup): $48,580,377.

Total Burden Costs (Operation/Maintenance): $280,697.

Dated: August 1, 2011.
Mary Ziegler,
Director, Division of Regulations, Legislation, and Interpretation.

[FR Doc. 2011-19999 Filed 8-5-11; 8:45 am]

BILLING CODE 4510-27-P